DEPARTMENT OF DEFENSE

Office of the Secretary

Defense Innovation Board; Notice of Federal Advisory Committee Meeting; Amendment

AGENCY: Under Secretary of Defense for Research and Engineering, Department of Defense.

ACTION: Notice of Federal Advisory Committee meeting; amendment.

SUMMARY: The Department of Defense (DoD) is publishing this notice to announce a change in location for the Federal Advisory Committee meeting of the Defense Innovation Board to be held on Thursday, March 21, 2019. Registration links remain open to allow for additional participation. Participants who have previously registered do not need to re-register.

DATES: Open to the public Thursday, March 21, 2019 from 9:30 a.m. to 12:30 p.m.

ADDRESSES: The public meeting will be held at the National Defense University, Lincoln Hall, Fort Lesley J. McNair, 260 5th Avenue, Building 64, Washington, DC 20319. The public meeting will be live streamed for those who are unable to physically attend the meeting. (A government issued identification card must be presented to gate security for entrance to Fort McNair and access to the meeting. See guidance in the SUPPLEMENTARY INFORMATION section.).

FOR FURTHER INFORMATION CONTACT: CAPT Chris Brunett, (703) 697-4337 (Voice), christopher.w.brunett.mil@mail.mil (Email). Mailing address is Defense Innovation Board, 9010 Defense Pentagon, Room 5E572, Washington, DC 20301-9010. Website: http://innovation.defense.gov. The most up-to-date changes to the meeting agenda can be found on the website.

SUPPLEMENTARY INFORMATION: Due to circumstances beyond the control of the Department of Defense (DoD) and the Designated Federal Officer, the Defense Innovation Board was unable to provide public notification required by 41 CFR 102-3.150(a) concerning its need to amend the previously-published meeting notice about the March 21, 2019 meeting of the Defense Innovation Board. Accordingly, the Advisory Committee Management Officer for the Department of Defense, pursuant to 41 CFR 102-3.150(b), waives the 15-calendar day notification requirement.

Change of Meeting Location: On February 15, 2019, DoD published a notice in the Federal Register (84 FR 4454-4455) announcing the a Federal Advisory Committee meeting of the Defense Innovation Board. This notice announces a change in location for the public meeting to be held on March 21, 2019. All other information, including times and topics to be addressed announced in the February 15, 2019 notice, remain the same. This meeting is being held under the provisions of the Federal Advisory Committee Act (FACA) of 1972 (5 U.S.C., Appendix, as amended), the Government in the Sunshine Act of 1976 (5 U.S.C. 552b, as amended), and 41 CFR 102-3.140 and 102-3.150.

Meeting Accessibility: Pursuant to Federal statutes and regulations (the FACA, the Sunshine Act, and 41 CFR 102-3.140 through 102-3.165) and the availability of space, the meeting is open to the public from 9:30 a.m. to 12:30 p.m. Seating is on a first-come basis. Members of the public wishing to attend the meeting or wanting to receive a link to the live stream webcast should register on the DIB website, http://innovation.defense.gov, no later than March 18, 2019.

To access Lincoln Hall on Fort McNair, attendees are highly encouraged to arrive via taxi to the visitors entrance on 2nd St. SW (closest intersection: Q St. SW). Walking distance from the 2nd St. SW gate to Lincoln Hall is about five minutes. Limited parking is available at Lincoln Hall for attendees. Metro transportation is available (Waterfront Metro stop—1 mile), and all RSVP names will be provided ahead of time to security personnel at the 2nd St. SW visitors gate. Those who RSVP past the deadline will still be able to attend the meeting, but will be delayed at the gate for a security check. Important: All attendees must bring a government photo ID such as a driver's license to access Fort McNair and attend the meeting. Members of the media should RSVP to Lieutenant Colonel Michelle Baldanza, U.S. Army, Office of the Secretary of Defense Public Affairs, at michelle.l.baldanza.mil@mail.mil.

Special Accommodations: Individuals requiring special accommodations to access the public meeting should contact the Designated Federal Officer (DFO), see the FOR FURTHER INFORMATION CONTACT section for contact information, no later than March 7, 2019, so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the DFO (see the FOR FURTHER INFORMATION CONTACT section for contact information). Written comments that do not pertain to a scheduled meeting may be submitted at any time. However, if individual comments pertain to a specific topic being discussed at the planned meeting, then such comments must be received in writing not later than March 18, 2019. The DFO will compile all written submissions and provide them to DIB members for consideration.

Oral Presentations: Individuals wishing to make an oral statement to the DIB at the public meeting may be permitted to speak for up to two minutes. Anyone wishing to speak to the DIB should submit a request by email at osd.innovation@mail.mil not later than March 18, 2019 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: March 14, 2019.
Aaron T. Siegel,
Alternate OSD Federal Register Liaison Officer, Department of Defense.

[FR Doc. 2019-05177 Filed 3-18-19; 8:45 am]

BILLING CODE 5001-06-P